DEPARTMENT OF DEFENSE

Office of the Secretary

[Docket ID DoD-2013-OS-0171]

Privacy Act of 1974; System of Records

AGENCY: Defense Information Systems Agency, DoD.

ACTION: Notice to amend a System of Records.

SUMMARY: The Defense Information Systems Agency is amending a system of records notice, KD3D.01, Continuity of Operations Plans, in its existing inventory of record systems subject to the Privacy Act of 1974 (5 U.S.C. 552a), as amended. This system will apprise the Continuity of Operations Office designated personnel of their responsibilities and relocation assignments in conditions of emergency; and incorporate the Continuity of Operations Office plans from agency field offices.

DATES: This proposed action will be effective on September 3, 2013 unless comments are received which result in a contrary determination. Comments will be accepted on or before September 3, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jeanette Weathers-Jenkins, DISA Privacy Officer, Chief Information Office, 6916 Cooper Avenue, Fort Meade, MD 20755-7901, or by phone at (301) 225-8158.

SUPPLEMENTARY INFORMATION: The Defense Information Systems Agency systems of records notices subject to the Privacy Act of 1974 (5 U.S.C. 552a), as amended, have been published in the Federal Register and are available from the address in FOR FURTHER INFORMATION CONTACT or at http://dpclo.defense.gov/privacy/SORNs/component/disa/index.html. The proposed changes to the record system being amended are set forth in this notice. The proposed amendment is not within the purview of subsection (r) of the Privacy Act of 1974 (5 U.S.C. 552a), as amended, which requires the submission of a new or altered system report.

Dated: July 30, 2013.
Aaron Siegel,
Alternate OSD Federal Register Liaison Officer, Department of Defense.

KD3D.01

System name:

Continuity of Operations Plans (August 22, 2000, 65 FR 50974).

Changes:

* * * * *

System location:

Delete entry and replace with “Defense Information Systems Agency, Continuity of Operations (COOP), OPS/GO51, 6910 Cooper Ave, Fort Meade, MD 20755-7901.”

* * * * *

System manager(s) and address:

Delete entry and replace with “Defense Information Systems Agency, Continuity of Operations (COOP), OPS/GO51, 6910 Cooper Ave, Fort Meade, MD 20755-7901.”

Notification procedure:

Delete entry and replace with “Individuals seeking to determine whether information about themselves is contained in this system should address written inquiries to the Continuity of Operations Planning (COOP), Defense Information Systems Agency, 6910 Cooper Ave, Fort Meade, MD 20755-7901.

The request should include the individual's full name.”

Record access procedures:

Delete entry and replace with “Individuals seeking access to information about themselves contained in this system should address written inquiries to the Continuity of Operations Planning (COOP), Defense Information Systems Agency, 6910 Cooper Ave, Fort Meade, MD 20755-7901.

The request should include the individual's full name.”

Contesting record procedures:

Delete entry and replace with “DISA's rules for accessing records, for contesting contents and appealing initial agency determinations are published in DISA Instruction 210-225-2; 32 CFR part 316; or may be obtained from the Defense Information Systems Agency, Continuity of Operations(COOP), OPS/GO51, 6910 Cooper Ave, Fort Meade, MD 20755-7901.”

* * * * *

[FR Doc. 2013-18686 Filed 8-1-13; 8:45 am]

BILLING CODE 5001-06-P